DEPARTMENT OF ENERGY

Notice of Availability; Draft Environmental Impact Statement for the Western Greenbrier Co-Production Demonstration Project

AGENCY: Department of Energy.

ACTION: Notice of availability and public hearings.

SUMMARY: The U.S. Department of Energy (DOE) announces the availability of the document, Draft Environmental Impact Statement for the Western Greenbrier Co-Production Demonstration Project, (DOE/EIS-0361), for public comment. The draft environmental impact statement (EIS) analyzes the potential environmental consequences of providing Federal funding for the design, construction, and demonstration of a 98 megawatt (MWe) net power plant and ash byproduct manufacturing facility to be located in the municipality of Rainelle, Greenbrier County, West Virginia. The facility would be constructed and demonstrated through a cooperative agreement between DOE and Western Greenbrier Co-Generation, LLC (WGC) under the Clean Coal Power Initiative (CCPI). WGC proposes to design, construct, and demonstrate an atmospheric pressure circulating fluidized-bed (CFB) power plant that would generate electricity and steam by burning approximately 3,000 to 4,000 tons per day of coal refuse from several local sites as the primary fuel. The proposed power plant would be the first commercial application within the United States of a CFB combustor featuring a compact inverted cyclone design.

The Department prepared this draft EIS in accordance with the National Environmental Policy Act of 1969 (NEPA) (42 U.S.C. 4321 et seq.), the Council on Environmental Quality (CEQ) regulations that implement the procedural provisions of NEPA (40 CFR parts 1500-1508), and the DOE procedures implementing NEPA (10 CFR part 1021).

DOE's proposed action is to provide cost-shared financial assistance to WGC through a cooperative agreement under the CCPI for design, construction, and operation of the Western Greenbrier Co-Production Demonstration Project. WGC proposes to design, construct, and operate a 98 MWe (net) power plant that would generate electricity and steam by burning fuel derived from the beneficiation of approximately 3,000 to 4,000 tons per day of coal refuse. The proposed power plant would be the first commercial application within the United States of an atmospheric circulating fluidized-bed combustor featuring a compact inverted cyclone design. The design would require less steel and facilitate erection in remote areas by reducing the boiler system footprint and height. These innovations could reduce steel costs by approximately 40 percent and shorten construction time by approximately 10 percent.

DATES: DOE invites the public to comment on the Draft EIS during the public comment period, which ends January 18, 2007. DOE will consider all comments postmarked or received during the public comment period in preparing the Final EIS, and will consider late comments to the extent practicable.

DOE will hold a public hearing on Thursday, January 4, 2007, at Western Greenbrier Middle School, Crawley, West Virginia from 7 p.m. to 9 p.m. An informational session will be held at the same location from 4 p.m. to 6:30 p.m., preceding the public hearing on the date noted above.

ADDRESSES: Requests for information about this Draft EIS or to receive a copy of the Draft EIS should be directed to: Roy G. Spears, NEPA Document Manager, U.S. Department of Energy, National Energy Technology Laboratory, M/S NO-3, P.O. Box 0880, Morgantown, West Virginia. Additional information about the Draft EIS may also be requested by telephone at: (304) 285-5460, or toll-free at: (800) 432-8330, x5460.

The Draft EIS will be available at http://www.eh.doe.gov/nepa/. Copies of the Draft EIS are also available for review at the locations listed in the SUPPLEMENTARY INFORMATION section of this Notice. Written comments on the Draft EIS can be mailed to Roy G. Spears, NEPA Document Manager, at the address noted above. Written comments may also be submitted by fax to: (412) 285-4403, or submitted electronically to: roy.spears@netl.doe.gov. Oral comments on the Draft EIS will be accepted only during the public hearing scheduled for the date and location provided in the DATES section of this Notice. Requests to speak at the public hearing can be made by calling or writing the EIS Document Manager (see ADDRESSES). Requests to speak that have not been submitted prior to the hearing will be accepted in the order in which they are received at the hearing. Speakers are encouraged to provide a written version of their oral comments for the record. Each speaker will be allowed five minutes to present comments unless more time is requested and available. Comments will be recorded by a court reporter and will become part of the public hearing record.

FOR FURTHER INFORMATION CONTACT: For further information on the proposed project or the draft environmental impact statement, please contact Mr. Roy G. Spears, as directed above. For general information regarding the DOE NEPA process, please contact: Ms. Carol M. Borgstrom, Director, Office of NEPA Policy and Compliance (GC-20), U.S. Department of Energy, 1000 Independence Avenue, SW., Washington, DC 20585, Telephone: (202) 586-4600, or leave a message at: (800) 472-2756.

SUPPLEMENTARY INFORMATION:

Description of Alternatives

DOE analyzed two alternatives in the Draft EIS: The proposed action and the no-action alternative. Under the proposed action, DOE would provide cost-shared funding to a private-sector applicant for the design, construction and demonstration of a Co-Production Facility based on an innovative atmospheric-pressure circulating fluidized-bed (ACFB) boiler with a compact inverted-cyclone design. In addition to producing electricity and steam, the Co-Production facility would include a kiln that would produce cement for use in the production of structural brick and other similar products. The Co-Production Facility would utilize coal refuse (also referred to as “gob”) from nearby coal refuse sites as the primary fuel source, and portions of the ash generated by the circulating fluidized-bed (CFB) would be returned to the coal refuse sites for use in site reclamation efforts. DOE has entered into a 5-year cooperative agreement with WGC to provide financial support through the CCPI program.

WGC was a successful applicant in Round 1 of the CCPI program and will be ultimately responsible for the siting, design, construction, and operation of the facility and related components. WGC is collectively owned by the towns of Rainelle, Rupert, and Quinwood, and its mission is to provide economic development for the area through the construction and operation of the proposed facility.

The main focus of the WGC Co-Production Facility Project is the construction and operation of the 98 MWe generating plant that utilizes the technologies described in Section 2.3 of the Draft Environmental Impact Statement. However, there are several unique and important aspects of the project that extend beyond the construction and operation of the power plant. In addition to generating power for the national grid and demonstrating the inverted cyclone technology, the proposed plant is intended to use coal refuse as its primary fuel source, to apply potential waste streams to beneficial uses, and to serve as an economic catalyst for the region by providing an anchor tenant for a planned industrial park (the “EcoPark”) to be located in Rainelle. As a result, there are connected actions associated with the excavation and reclamation of the proposed coal refuse piles (e.g., beneficiation of the coal refuse by a third party), the additional industrial activities that may occur with the project (e.g., potential production of building products from the cement), and potential future commercial and industrial development that are intended to occur as a result of the plant. These additional project aspects are not integral to the DOE decision on whether to provide cost-shared funding to demonstrate the clean coal technologies of interest.

Under the No Action Alternative, DOE would not provide cost-shared funding to demonstrate the Co-Production Facility Project. Although WGC could proceed to implement the proposed project in spite of DOE's No Action Alternative, it is unlikely that this project would be completed successfully without DOE funding support. The No Action alternative would not involve new construction, new discharges, or changes in land or water uses in the planning area. Because this alternative would not involve introducing new emission sources, no impact on the air quality, either locally or regionally, is expected. Aesthetic and scenic conditions, as well as surface and ground water, would remain unchanged. The No Action alternative would not contribute to the goal of the CCPI program, which is to accelerate commercial deployment of advanced technologies that provide the United States with clean, reliable, and affordable energy.

Availability of the Draft EIS

Copies of this Draft EIS have been distributed to Members of Congress, Federal, State, and local officials, and agencies, organizations and individuals who may be interested or affected. This Draft EIS will be available on the Internet at: http://www.eh.doe.gov/nepa/. Additional copies can also be requested by telephone at: 304-285-5460, or (800) 432-8330, x5460. Copies of the Draft EIS are also available for public review at the Greenbrier County Public Library, 301 Courtney Drive, Lewisburg, West Virginia, and at the Rainelle Municipal Public Library, 312 7th Street, Rainelle, West Virginia.

Issued in Washington, DC, on November 28, 2006.
Mark J. Matarrese,
Director, Office of Environment, Security, Safety and Health, Office of Fossil Energy.

[FR Doc. E6-20435 Filed 12-1-06; 8:45 am]

BILLING CODE 6450-01-P